FEDERAL COMMUNICATIONS COMMISSION

47 CFR Part 27

[DA 07-4378]

Amendment of Commission Rules—Competitive Bidding Order; Correction

AGENCY: Federal Communications Commission, Wireless Telecommunication Bureau.

ACTION: Correcting amendments.

SUMMARY: The Wireless Telecommunications Bureau of the Federal Communications Commission is correcting a final rule that appeared in the Federal Register of Tuesday, July 9, 2002 (67 FR 45362). That final rule inadvertently removed provisions of § 27.502 of the Federal Communication Commission's rules, regarding bidding credit percentages for eligible designated entities bidding on licenses in the 746-764 MHz and 776-794 MHz Bands. This document corrects the final regulations by restoring the substance of the removed provisions.

DATES: Effective on November 9, 2007.

FOR FURTHER INFORMATION CONTACT: Erik Salovaara, 202-418-7582.

SUPPLEMENTARY INFORMATION: This is a summary of the Wireless Telecommunications Bureau Erratum, DA 07-4378, released on October 24, 2007.

The Order that is the subject of these correcting amendments served to eliminate redundant or unnecessary rules from the Code of Federal Regulations. The Order amended the Commission's rules on competitive bidding to further the Bureau's continuing efforts to streamline its procedures in accordance with the Commission's biennial regulatory review obligations set forth at section 11(a) of the Communications Act of 1934, as amended.

As published, the amended 47 CFR 27.502, which renumbered original § 27.502(a)(6) as § 27.502(c), inadvertently omitted the substance of the original § 27.502(c), regarding bidding credit percentages. Subsequently, the Commission removed the new § 27.502(c). This correction restores the original § 27.502(c) as § 27.502(b), and renumbers the remaining paragraphs of § 27.502 (i.e., the current paragraphs (a) and (b)) as §§ 27.502(a)(1) and 27.502(a)(2). In addition, the Commission take this opportunity to update cross-references to 47 CFR 1.2110(e)(2)(ii) and 1.2110(e)(2)(iii) appearing in the original 47 CFR 27.502(c) to reflect the intervening renumbering of the cross-referenced material as 47 CFR 1.2110(f)(2)(ii) and 1.2110(f)(2)(iii).

List of Subjects in 47 CFR Part 27

Communications common carriers, Radio.

Accordingly, 47 CFR part 27 is corrected by making the following correcting amendments:

PART 27—MISCELLANEOUS WIRELESS COMMUNICATIONS SERVICES

1. The authority citation for part 27 continues to read as follows:

Authority: 47 U.S.C. 154, 301, 302, 303, 307, 309, 336 and 337 unless otherwise noted.

2. Revise § 27.502 to read as follows:

§ 27.502 Designated entities.

Eligibility for small business provisions: (a)(1) A small business is an entity that, together with its controlling interests and affiliates, has average gross revenues not exceeding $40 million for the preceding three years.

(2) A very small business is an entity that, together with its controlling interests and affiliates, has average gross revenues not exceeding $15 million for the preceding three years.

(b) Bidding credits. A winning bidder that qualifies as a small business or a consortium of small businesses as defined in this section may use the bidding credit specified in § 1.2110(f)(2)(iii) of this chapter. A winning bidder that qualifies as a very small business or a consortium of very small businesses as defined in this section may use the bidding credit specified in § 1.2110(f)(2)(ii) of this chapter.

Federal Communications Commission.
Gary D. Michaels,
Deputy Chief, Auctions and Spectrum Access Division, WTB.

[FR Doc. E7-22046 Filed 11-8-07; 8:45 am]

BILLING CODE 6712-01-P